DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Customer Surveys.

OMB Control Number: 0648-0342.

Form Number(s): None.

Type of Request: Regular (extension of a currently approved information collection).

Number of Respondents: 183,000.

Average Hours per Response: 10 minutes.

Burden Hours: 17,000.

Needs and Uses: This request is for extension of a currently approved generic information collection.

This collection follows the guidelines contained in the OMB Resource Manual for Customer Surveys. In accordance with Executive Order 12862, the National Performance Review, and good management practices, NOAA offices seek approval to continue to gather customer feedback on services and/or products, which can be used in planning for service/product modification and prioritization. Under this generic clearance, individual offices would use approved questionnaires and develop new questionnaires, as needed, by selecting subsets of the approved set of collection questions and tailoring those specific questions to be meaningful for their particular programs. These proposed questionnaires would then be submitted to OMB using a fast-track request for approval process, for which separate Federal Register notices are not required. Surveys currently being conducted include Web site satisfaction surveys, a Chart Users survey, and a Coastal Services Center Training Evaluation.

The generic clearance will not be used to survey any bodies NOAA regulates unless precautions are taken to ensure that the respondents believe that they are not under any risk for not responding or for the contents of their responses; e.g., in no survey to such a population will the names and addresses of respondents be required.

Affected Public: Individuals or households; not-for-profit institutions; state, local or tribal government; business or other for-profit organizations.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 22, 2015.
Sarah Brabson,
NOAA PRA Clearance Officer.

[FR Doc. 2015-09713 Filed 4-24-15; 8:45 am]

BILLING CODE 3510-12-P